DEPARTMENT OF VETERANS AFFAIRS

[OMB Control No. 2900-0051]

Agency Information Collection Activities Under OMB Review

AGENCY: Veterans Benefits Administration, Department of Veterans Affairs.

ACTION: Notice.

SUMMARY: In compliance with the Paperwork Reduction Act (PRA) of 1995 (44 U.S.C. 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before April 18, 2003.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-0051.”

Send comments and recommendations concerning any aspect of the information collection to VA's OMB Desk Officer, OMB Human Resources and Housing Branch, New Executive Office Building, Room 10235, Washington, DC 20503 (202) 395-7316. Please refer to “OMB Control No. 2900-0051” in any correspondence.

SUPPLEMENTARY INFORMATION:

Title: Quarterly Report of State Approving Agency Activities, VA Form 22-7398.

OMB Control Number: 2900-0051.

Type of Review: Extension of a currently approved collection.

Abstract: VA reimburses State Approving Agency (SAA) for necessary salary, and fringe and travel expenses incurred in the approval and supervision of education and training programs. VA makes the reimbursement retrospectively on a monthly or quarterly basis after receiving an itemized invoice from SAAs supported by document (such as reports of visit to schools and programs approved by SAA). VA Form 22-7398 serves as the form for SAA to request reimbursement. The information is used to ensure that the reimbursements are proper and accurate. Without the report, VA would have no means to compare the efficiency and effectiveness of SAAs.

An agency may not conduct or sponsor, and a person is not required to respond to a collection of information unless it displays a currently valid OMB control number. The Federal Register Notice with a 60-day comment period soliciting comments on this collection of information was published on December 20, 2002, at page 78041-78042.

Affected Public: State, Local or Tribal Governments, and Federal Government.

Estimated Annual Burden: 228 hours.

Estimated Average Burden Per Respondent: 60 minutes.

Frequency of Response: Quarterly.

Estimated Number of Respondents: 57.

Estimated Total Annual Responses: 228.

Dated: February 26, 2003.
By direction of the Secretary.
Martin L. Hill,
Acting Director, Records Management Service.

[FR Doc. 03-6619 Filed 3-18-03; 8:45 am]

BILLING CODE 8320-01-P